ENVIRONMENTAL PROTECTION AGENCY

40 CFR Parts 260, 261, 268 and 271

[FRL-6870-6]

RIN-2050-AE65

Land Disposal Restrictions; Treatment Standards for Spent Potliners From Primary Aluminum Reduction (K088) and Regulatory Classification of K088 Vitrification Units

AGENCY: Environmental Protection Agency (EPA).

ACTION: Proposed rule; reopening of the comment period.

SUMMARY: On July 12, 2000 (65 FR 42937), EPA issued a proposed rule presenting potential revisions to the Land Disposal Restrictions treatment standards applicable to spent potliners from primary aluminum reduction (EPA hazardous waste: K088). The proposal requested comment on the proposed treatment standards, the Agency's proposal to classify K088 vitrification units as RCRA subpart X miscellaneous treatment units, and the appropriateness of extending the rational proposed for K088-vitrification units to all vitrification units treating RCRA hazardous waste. The Agency is extending the comment period because several commenters have requested more time to address the issues raised in the proposal, and to generate data on hazardous concentrations in untreated and treated K088 waste. This document extends the comment period for the proposed rule.

DATES: The comment period for this proposed rule is extended from the original closing date of September 11, 2000 to December 11, 2000.

ADDRESSES: If you wish to comment on this notice of proposed rulemaking (NPRM), you must send an original and two copies of the comments referencing docket number F-2000-TSSP-FFFFF to: RCRA Docket Information Center, Office of Solid Waste (5305G), U.S. Environmental Protection Agency Headquarters (EPA, HQ), Ariel Rios Building, 1200 Pennsylvania Avenue, NW, Washington, D.C. 20460. Hand deliveries of comments should be made to the Arlington, VA, address listed below. You may also submit comments electronically by sending electronic mail through the Internet to: rcradocket@epamail.epa.gov. You should identify comments in electronic format with the docket number F-2000-TSSP-FFFFF. You must submit all electronic comments as an ASCII (text) file, avoiding the use of special characters and any form of encryption. If you do not submit comments electronically, EPA is asking prospective commenters to voluntarily submit one additional copy of their comments on labeled personal computer diskettes in ASCII (text) format or a word processing format that can be converted to ASCII (text). It is essential to specify on the disk label the word processing software and version/edition as well as the commenter's name. This will allow EPA to convert the comments into one of the word processing formats utilized by the Agency. Please use mailing envelopes designed to physically protect the submitted diskettes. EPA emphasizes that submission of comments on diskettes is not mandatory, nor will it result in any advantage or disadvantage to any commenter.

You should not submit electronically any confidential business information (CBI). You must submit an original and two copies of CBI under separate cover to: RCRA CBI Document Control Officer, Office of Solid Waste (5305W), U.S. EPA, Ariel Rios Building, 1200 Pennsylvania Avenue, NW, Washington, D.C. 20460.

You may view public comments and supporting materials in the RCRA Information Center (RIC), located at Crystal Gateway I, First Floor, 1235 Jefferson Davis Highway, Arlington, VA. The RIC is open from 9 a.m. to 4 p.m., Monday through Friday, excluding federal holidays. To review docket materials, we recommend that you make an appointment by calling (703) 603-9230. You may copy a maximum of 100 pages from any regulatory docket at no charge. Additional copies cost $0.15/page.

FOR FURTHER INFORMATION CONTACT: For general information or to order paper copies of this Federal Register document, contact the RCRA Hotline Monday through Friday between 9:00 a.m. and 6:00 p.m. EST, toll free at (800) 424-9346; or (703) 412-9810 from Government phones or if in the Washington, D.C. local calling area; or (800) 553-7672 for the hearing impaired. For technical information contact, Elaine Eby or John Austin, Office of Solid Waste (5302W), U.S. Environmental Protection Agency, Ariel Rios Building, 1200 Pennsylvania Avenue, N.W., Washington, DC 20460. Elaine Eby may be reached at 703-308-8449, eby.elaine@epamail.epa.gov; and John Austin may be reached at 703-308-0436, austin.john@epamail.epa.gov.

List of Subjects

40 CFR Part 260

Environmental protection, Administrative practice and procedure, Confidential business information, Hazardous waste.

40 CFR Part 261

Environmental protection, Hazardous materials, Recycling, Waste treatment and disposal.

40 CFR Part 268

Environmental protection, Hazardous waste, Reporting and recordkeeping requirements.

40 CFR Part 271

Environmental protection, Administrative practice and procedure, Confidential business information, Hazardous material transportation, Hazardous waste, Indians-lands, Intergovernmental relations, Penalties, Reporting and recordkeeping requirements, Water pollution control, Water supply.

Dated: September 6, 2000.
Elizabeth A. Cotsworth,
Director, Office of Solid Waste.

[FR Doc. 00-23944 Filed 9-15-00; 8:45 am]

BILLING CODE 6560-50-P